DEPARTMENT OF HEALTH AND HUMAN SERVICES

[30-day notice]

Agency Information Collection Request. 30-Day Public Comment Request, Grants.gov

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, to Ed.Calimag@hhs.gov, or call the Reports Clearance Office on (202) 205-1193. Send written comments and recommendations for the proposed information collections within 30 days of this notice directly to the Grants.gov OMB Desk Officer; faxed to OMB at 202-395-6974.

Proposed Project: The SF-424B Assurances—Non-Construction Programs—Reinstatement with Change-OMB No. 4040-0007 -Grants.gov Office.

Abstract: Grants.gov is requesting OMB approval to reinstate with change the previously approved SF-424B Assurances—Non-Construction Programs (SF-424B) form (4040-0007) for three years. The information will reflect the updated changes to the legal citations located within the United States Code. The “Trafficking Victims Protection Act of 2000” (Section 106), as amended (22 U.S.C. 7104 (g) has been added in Section 18.

The SF-424B is used to provide information on required assurances when applying for non-construction Federal grants. The Federal awarding agencies use information reported on the form for the evaluation of award and general management of Federal assistance program awards. The only information collected on the form is the applicant signature, title and date submitted.

Estimated Annualized Burden Hour Table
Agency | SF-424 B No. of annual respondents | No. of responses per respondent | Total annual responses | Average burden on respondent per response in hours | Total burden hours
CNCS | 5181 | 1 | 5181 | 30/60 | 2591
COMMERCE | 6151 | 1 | 6151 | 30/60 | 3076
DHS | 2493 | 1 | 2493 | 30/60 | 1247
DOD | 5 | 1 | 5 | 30/60 | 3
DOE | 0 | 1 | 0 | 30/60 | 0
DOI | 1144 | 1 | 1144 | 30/60 | 572
DOL | 2265 | 1 | 2265 | 30/60 | 1133
DOT | 893 | 1 | 893 | 30/60 | 447
ED | 0 | 1 | 0 | 30/60 | 0
EPA | 4000 | 1 | 4000 | 30/60 | 2000
HHS | 12682 | 1 | 12682 | 30/60 | 6341
HUD | 0 | 1 | 0 | 30/60 | 0
IMLS | 0 | 1 | 0 | 30/60 | 0
NARA | 0 | 1 | 0 | 30/60 | 0
NASA | 0 | 1 | 0 | 30/60 | 0
NEA | 0 | 1 | 0 | 30/60 | 0
NEH | 0 | 1 | 0 | 30/60 | 0
NIST | 446 | 1 | 446 | 30/60 | 223
NRC | 233 | 1 | 233 | 30/60 | 117
NSF | 0 | 1 | 0 | 30/60 | 0
SBA | 827 | 1 | 827 | 30/60 | 414
SSA | 115 | 1 | 115 | 30/60 | 58
STATE | 0 | 1 | 0 | 30/60 | 0
TREASURY | 478 | 1 | 478 | 30/60 | 239
USAID | 304 | 1 | 304 | 30/60 | 152
USDA | 9027 | 1 | 9027 | 30/60 | 4514
USDOJ | 77 | 1 | 77 | 30/60 | 39
VA | 200 | 1 | 200 | 30/60 | 100
TOTAL |  |  |  |  | 23,266

Seleda Perryman,
Office of the Secretary, HHS PRA Reports Clearance Officer.

[FR Doc. 2011-3962 Filed 2-22-11; 8:45 am]

BILLING CODE 4151-AE-P